DEPARTMENT OF TRANSPORTATION

Federal Aviation Administration

14 CFR Part 39

[Docket No. FAA-2005-23319; Directorate Identifier 2005-CE-52-AD; Amendment 39-14663; AD 2006-13-10]

RIN 2120-AA64

Airworthiness Directives; Raytheon Aircraft Company 65, 90, 99, and 100 Series Airplanes

AGENCY: Federal Aviation Administration (FAA), Department of Transportation (DOT).

ACTION: Final rule.

SUMMARY: We are adopting a new airworthiness directive (AD) that supersedes AD 92-07-05, which applies to certain Raytheon Aircraft Company (Raytheon) (formerly Beech) 65, 90, 99, and 100 series airplanes. AD 92-07-05 currently requires you to inspect the rudder trim tab for proper moisture drainage provisions, and if the correct drainage provisions do not exist, before further flight, modify the rudder trim tab. This AD results from receiving and evaluating new service information that requires the actions of AD 92-07-05 for the added serial numbers LJ-1281 through LJ-1732 for the Model C90A airplanes. This AD retains all the actions of AD 92-07-05 and adds serial numbers LJ-1281 through LJ-1732 for the Model C90A airplanes in the applicability section. We are issuing this AD to prevent water accumulation in the rudder trim tab, which could result in a change in the mass properties and possibly a lower flutter speed of the airplane. A lower airplane flutter speed could result in failure and loss of control of the airplane.

DATES: This AD becomes effective on August 7, 2006.

As of August 7, 2006, the Director of the Federal Register approved the incorporation by reference of certain publications listed in the regulation.

ADDRESSES: For service information identified in this AD, contact Raytheon Aircraft Company, P.O. Box 85, Wichita, Kansas 67201-0085; telephone: (800) 429-5372 or (316) 676-3140.

To view the AD docket, go to the Docket Management Facility; U.S. Department of Transportation, 400 Seventh Street, SW., Nassif Building, Room PL-401, Washington, DC 20590-001 or on the Internet at http://dms.dot.gov. The docket number is FAA-2005-23319; Directorate Identifier 2005-CE-52-AD.

FOR FURTHER INFORMATION CONTACT: Steven E. Potter, Aerospace Engineer, Wichita Aircraft Certification Office, FAA, 1801 Airport Road, Wichita, Kansas 67209; telephone: (316) 946-4124; facsimile: (316) 946-4107.

SUPPLEMENTARY INFORMATION:

Discussion

On January 31, 2006, we issued a proposal to amend part 39 of the Federal Aviation Regulations (14 CFR part 39) to include an AD that would apply to certain Raytheon 65, 90, 99, and 100 series airplanes. This proposal was published in the Federal Register as a notice of proposed rulemaking (NPRM) on February 6, 2006 (71 FR 6025). The NPRM proposed to supersede AD 92-07-05, Amendment 39-8201 (57 FR 8721, March 12, 1992) and to add serial numbers LJ-1281 through LJ-1732 for the Model C90A airplanes in the applicability section. This AD will retain all the actions of AD 92-07-05 for inspecting and modifying the rudder trim tab for correct drainage provisions.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 2,407 airplanes in the U.S. registry.

We estimate the following costs to do the inspection:

Labor cost | Parts cost | Total cost per airplane | Total cost on U.S. operators
1 work-hour × $80 = $80 | Not Applicable | $80 | 2,407 × $80 = $192,560.

We estimate the following costs to do any necessary modification of the rudder trim tab to provide the correct drainage provisions that would be required based on the results of this inspection. We have no way of determining the number of airplanes that may need this modification:

Labor cost | Parts cost | Total cost per airplane
1 work-hour × $80 = $80 | $25 | $105

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-23319; Directorate Identifier 2005-CE-52-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 92-07-05, Amendment 39-8201 (57 FR 8721, March 12, 1992), and by adding the following new airworthiness directive:

2006-13-10 Raytheon Aircraft Company (Formerly Beech): Amendment 39-14663; Docket No. FAA-2005-23319; Directorate Identifier 2005-CE-52-AD.

Effective Date

(a) This AD becomes effective on August 7, 2006.

Affected ADs

(b) This AD supersedes AD 92-07-05; Amendment 39-8201.

Applicability

(c) This AD affects the following airplane models and serial numbers that are certificated in any category:

(1) Group 1 (maintains the actions from AD 92-07-05):

Model | Serial Nos.
(i) 65-90, 65-A90, B90, C90, and C90A | LJ-1 through LJ-1280.
(ii) E90 | LW-1 through LW-347.
(iii) 99, 99A, A99, A99A, B99, and C99 | U-1 through U-136 and U-146 through U-239.
(iv) 100 and A100 | B1 through B-94, B-100 through B-204, and B-206 through B247.
(v) B100 | BE-1 through BE-137.
(vi) 65-A90-1 (U-21A, JU-21A, RU-21D, RU-21H, RU-21A, U-21G) | LM-1 through LM-141.
(vii) 65-A90-2 (RU-21B) | LS-1, LS-2, and LS-3.
(viii) 65-A90-3 (RU-21C) | LT-1 and LT-2.
(ix) 65-A90-4 (RU-21EA, U-21H, RU-21H) | LU-1 through LU-16.
(x) H90 (T-44A) | LL-1 through LL-61.
(xi) 99A (FACH) | U-137 through U-145.
(xii) A100 (U-21F) | B95 through B-99.

(2) Group 2: Model C90A, serial numbers LJ-1281 through LJ-1732.

Unsafe Condition

(d) This AD results from receiving and evaluating new service information that requires the actions of AD 92-07-05 for the added serial numbers LJ-1281 through LJ-1732 for the Model C90A airplanes. The actions specified in this AD are intended to prevent water accumulation in the rudder trim tab, which could result in a change in the mass properties and possibly a lower flutter speed of the airplane. A lower airplane flutter speed could result in failure and loss of control of the airplane.

Compliance

(e) To address this problem, you must do the following:

Actions | Compliance | Procedures
(1) For Group 1 Airplanes: Inspect the rudder trim tab for proper moisture drainage provisions | Within 150 hours time-in-service (TIS) after April 30, 1992 (the effective date of AD 92-07-05), unless already done | Follow Beech Service Bulletin No. 2365, Revision 1, dated December 1991.
(2) For Group 1 Airplanes: If the correct drainage provisions do not exist, modify the rudder trim tab | Before further flight after the inspection required by paragraph (e)(1) of this AD | Follow Beech Service Bulletin No. 2365, Revision 1, dated December 1991.
(3) For Group 2 Airplanes: Inspect the rudder trim tab for proper moisture drainage provisions | Within 150 hours TIS after August 7, 2006 (the effective date of this AD), unless already done | Follow Raytheon Aircraft Company Service Bulletin No. SB 55-2365, Revision 2, Issued: January 1991, Revised: October 2005.
(4) For Group 2 Airplanes: If the correct drainage provisions do not exist, modify the rudder trim tab | Before further flight after the inspection required by paragraph (e)(3) of this AD | Follow Raytheon Aircraft Company Service Bulletin No. SB 55-2365, Revision 2, Issued: January 1991, Revised: October 2005.

Alternative Methods of Compliance (AMOCs)

(f) The Manager, Wichita Aircraft Certification Office (ACO), FAA, ATTN: Steven E. Potter, Aerospace Engineer, Wichita ACO, FAA, 1801 Airport Road, Wichita, Kansas 67209; telephone: (316) 946-4124; facsimile: (316) 946-4107, has the authority to approve AMOCs for this AD, if requested using the procedures found in 14 CFR 39.19.

(g) AMOCs approved for AD 92-07-05 are not approved for this AD.

Material Incorporated by Reference

(h) You must do the actions required by this AD following the instructions in Beechcraft Mandatory Service Bulletin No. 2365, Revision 1, dated December 1991, and Raytheon Aircraft Company Service Bulletin No. SB 55-2365, Revision 2, Issued: January 1991, Revised: October 2005. The Director of the Federal Register approved the incorporation by reference of these service bulletins in accordance with 5 U.S.C. 552(a) and 1 CFR part 51. To get a copy of this service information, contact Raytheon Aircraft Company, P.O. Box 85, Wichita, Kansas 67201-0085; telephone: (800) 429-5372 or (316) 676-3140. To review copies of this service information, go to the National Archives and Records Administration (NARA). For information on the availability of this material at NARA, go to: http://www.archives.gov/6federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-23319; Directorate Identifier 2005-CE-52-AD.

Issued in Kansas City, Missouri, on June 13, 2006.
James E. Jackson,
Acting Manager, Small Airplane Directorate, Aircraft Certification Service.

[FR Doc. 06-5586 Filed 6-23-06; 8:45 am]

BILLING CODE 4910-13-P